NATIONAL CREDIT UNION ADMINISTRATION

Sunshine Act Meeting

Time and Date: 10 a.m., Thursday, March 15, 2007.

Place: Board Room, 7th Floor, Room 7047, 1775 Duke Street, Alexandria, VA 22314-3428.

Status: Open.

Matter To Be Considered: 1. NCUSIF Dividend and Insurance Premium.

2. Appeals from Cinfed Federal Credit Union and Emergy Federal Credit union of the Regional Director's Denials of Conversion from Multiple Common Bonds to Community Charters.

3. Proposed Rule: Parts 748, 749, and 750 of NCUA's Rules and Regulations, Disaster Preparedness and Records Preservation Program.

4. Proposed Rule: Part 716 of NCUA's Rules and Regualtions, Model Privacy Form.

FOR FURTHER INFORMATION CONTACT: Mary Rupp, Secretary of the Board, Telephone: 703-518-6304.

Mary Rupp,
Secretary of the Board.

[FR Doc. 07-1175 Filed 3-8-07; 3:15 pm]

BILLING CODE 7535-01-M